DEPARTMENT OF DEFENSE

Office of the Secretary; Defense Science Board

AGENCY: Department of Defense (DoD).

ACTION: Notice; Correction—Notice of Advisory Committee meeting date and location change.

SUMMARY: The Defense Science Board published a document in the Federal Register of May 20, 2005, announcing a closed meeting of the Defense Science Board (DSB) Task Force on Nuclear Capabilities. The August 30-31, 2005, tasked force has been revised to meet in closed session on August 31-September 1, 2005, at the Institute for Defense Analysis (IDA). IDA is located at 4850 Mark Center Drive, Alexandria, VA. All other meeting dates and locations remain unchanged. The Task Force will review DoD needs and specific requirements for nuclear capabilities.

In accordance with section 10(d) of the Federal Advisory Committee Act, Public Law 92-463, as amended (5 U.S.C. App. II), it has been determined that these Defense Science Board Task Force meetings concern matters listed in 5 U.S.C. 552b(c)(1) and that, accordingly, the meetings will be closed to the public.

FOR FURTHER INFORMATION CONTRACT: LtCol David Robertson, USAF, Defense Science Board, 3140 Defense Pentagon, Room 3C553, Washington, DC 20301-3140, via e-mail at david.robertson@osd.mil, or via phone at (703) 571-0081.

Correction

In the Federal Register of May 20, 2005, in FR Doc 05-10155, on page 29288, in the last column, correct the SUMMARY and DATES captions to read:

SUMMARY: The August 30-31, 2005, tasked force meeting has been revised to meet in closed session on August 31-September 1, 2005, at the Institute for Defense Analysis (IDA).

DATES: The August 30-31, 2005, tasked force meeting has been revised to meet in closed session on August 31-September 1, 2005.

Dated: July 27, 2005.
Jeannette Owings-Ballard,
OSD Federal Register Liaison Officer, Department of Defense.

[FR Doc. 05-15202 Filed 8-1-05; 8:45 am]

BILLING CODE 5001-06-P